DEPARTMENT OF HOMELAND SECURITY

[Docket No. DHS-2010-0073]

Science and Technology (S&T) Directorate; Agency Information Collection Activities: Submission for Review; Information Collection Request for the Department of Homeland Security (DHS) Science and Technology Protected Repository for the Defense of Infrastructure Against Cyber Threats (PREDICT) Program

AGENCY: Science and Technology Directorate, DHS.

ACTION: 30-day notice and request for comment.

SUMMARY: The Department of Homeland Security invites the general public to comment on data collection forms for the Protected Repository for the Defense of Infrastructure Against Cyber Threats (PREDICT) initiative. PREDICT is an initiative to facilitate the accessibility of computer and network operational data for use in cybersecurity defensive research and development. Specifically, PREDICT provides developers and evaluators with regularly updated network operations data sources relevant to cybersecurity defense technology development. The data sets are intended to provide developers with timely and detailed insight into cyberattack phenomena occurring across the Internet and in some cases will reveal the effects of these attacks on networks that are owned or managed by the data producers. A key motivation of PREDICT is to make these data sources more widely available to technology developers and evaluators, who today often determine the efficacy of their technical solutions on anecdotal evidence or small-scale test experiments, rather than on more comprehensive real-world data. The PREDICT Web site http://www.predict.org/contains an overview and general information as background, along with the data repository. As specified on the Web site, access to the PREDICT data repository is available to eligible research groups upon approval of their applications. In addition to helping to determine whether a group is eligible to access the repository, the forms will also manage the interactions between the PREDICT portal administrators and the research groups accessing the PREDICT portal. The Department is committed to improving its PREDICT initiative and invites interested persons to comment on the following forms and instructions (hereinafter “Forms Package”) for the PREDICT initiative: (1) Account Request Form (DHS Form 10029 (12/07)); (2) Request a Dataset Form (DHS Form 10032 (12/07)); (3) My Datasets Form (DHS Form 10033 (12/07)); (4) Memorandum of Agreement—PREDICT (PCC) Coordinating Center and Researcher/User (DHS Form 10035 (12/07)); (5) Memorandum of Agreement PREDICT Coordinating Center (PCC) and Data Provider (DP) (DHS Form 10036 (12/07)); (6) Memorandum of Agreement—PCC and Data Host (DH) (DHS Form 10037 (12/07)); (7) Authorization Letter for Data Host (DHS Form 10038 (12/07)); (8) Authorization Letter for Data Provider (DHS Form 10039 (12/07)); (9) Sponsorship Letter (DHS Form 10040 (12/07)); (10) Notice of Dataset Access/Application Expiration (DHS Form 10041 (12/07)); (11) Notice for Certificate of Data Destruction (DHS Form 10042 (12/07)). Two new forms are also included—(12) Amendment to Research/User Agreement (10060 (04/10)); (13) Notice of Data Access Expiration (10061 (04/10)).

This notice and request for comments is required by the Paperwork Reduction Act of 1995 (Pub. L. 104-13, 44 U.S.C. chapter 35).

DATES: Comments are encouraged and will be accepted until October 1, 2010.

Comments: Interested persons are invited to submit written comments on the proposed information collection to the Office of Information and Regulatory Affairs, Office of Management and Budget. Comments should be addressed to Desk Officer for the Department of Homeland Security, Science and Technology Directorate, and sent via electronic mail to oira_submission@omb.eop.gov or faxed to (202) 395-6974. Please include docket number DHS-2010-0073 in the subject line of the message.

FOR FURTHER INFORMATION CONTACT: Jeffery Harris (202) 254-6015 (Not a toll free number).

SUPPLEMENTARY INFORMATION: Interested parties can obtain copies of the Forms Package by calling or writing the point of contact listed above. The content of PREDICT is proprietary datasets that will be used by the Research community in its efforts to build products and technologies that will better protect America's computing infrastructure. Using a secure Web portal, accessible through https://www.predict.org/, the PREDICT Coordinating Center manages a centralized repository that identifies the datasets and their sources and location, and acts as gatekeeper for access and release of the data. All data input to the system is either keyed in by users (Data Providers) or migrated (via upload of XML files).

DHS is particularly interested in comments that:

(1) Evaluate whether the proposed collection of information is necessary for the proper performance of the functions of the agency, including whether the information will have practical utility;

(2) Evaluate the accuracy of the agency's estimate of the burden of the proposed collection of information, including the validity of the methodology and assumptions used;

(3) Suggest ways to enhance the quality, utility, and clarity of the information to be collected; and

(4) Suggest ways to minimize the burden of the collection of information on those who are to respond, including through the use of appropriate automated, electronic, mechanical, or other technological collection techniques or other forms of information technology, e.g., permitting electronic submissions of responses.

The user will complete a portion of the forms online and submit them through the Web site, while some forms will be printed from the Web site and faxed to a PREDICT portal administrator. The entire Forms Package will be available on the PREDICT Web site found at https://www.predict.org.

Overview of this Information Collection:

(1) Type of Information Collection: Information Collection Revision.

(2) Title of the Form/Collection: DHS S&T PREDICT Initiative.

Agency Form Number, if any, and the applicable component of the Department of Homeland Security sponsoring the collection: DHS Science and Technology Directorate, (1) Account Request Form (DHS Form 10029 (12/07)); (2) Request a Dataset Form (DHS Form 10032 (12/07)); (3) My Datasets Form (DHS Form 10033 (12/07)); (4) Memorandum of Agreement—PREDICT (PCC) Coordinating Center and Researcher/User (DHS Form 10035 (12/07)); (5) Memorandum of Agreement PREDICT Coordinating Center (PCC) and Data Provider (DP) (DHS Form 10036 (12/07)); (6) Memorandum of Agreement—PCC and Data Host (DH) (DHS Form 10037 (12/07)); (7) Authorization Letter for Data Host (DHS Form 10038 (12/07)); (8) Authorization Letter for Data Provider (DHS Form 10039 (12/07)); (9) Sponsorship Letter (DHS Form 10040 (12/07)); (10) Notice of Dataset Access/Application Expiration (DHS Form 10041 (12/07)); (11) Notice for Certificate of Data Destruction (DHS Form 10042 (12/07)). Two new forms are also included—(12) Amendment to Research/User Agreement (10060 (04/10)); (13) Notice of Data Access Expiration (10061 (04/10)).

(3) Affected public who will be asked or required to respond, as well as a brief abstract: Individuals or households, Business or other for-profit, Not-for-profit institutions, Federal government, and State, local, or tribal government; the data gathered will allow the PREDICT initiative to provide a central repository, accessible through a Web-based portal (https://www.predict.org/) that catalogs current computer network operational data, provide secure access to multiple sources of data collected as a result of use and traffic on the Internet, and facilitate data flow among PREDICT participants for the purpose of developing new models, technologies and products that support effective threat assessment and increase cyber security capabilities.

(4) An estimate of the total number of respondents and the amount of time estimated for an average respondent to respond:

a. Estimate of the total number of respondents: 206.

b. An estimate of the time for an average respondent to respond: 8 burden hours.

c. An estimate of the total public burden (in hours) associated with the collection: 118 burden hours.

Dated: August 24, 2010.
Tara O'Toole,
Under Secretary for Science and Technology.

[FR Doc. 2010-21783 Filed 8-31-10; 8:45 am]

BILLING CODE 9110-9F-P